DEPARTMENT OF THE INTERIOR

National Park Service

[NPS-WASO-NAGPRA-NPS0040485; PPWOCRADN0-PCU00RP14.R50000]

Notice of Inventory Completion: Kansas State Historical Society, Topeka, KS

AGENCY: National Park Service, Interior.

ACTION: Notice.

SUMMARY: In accordance with the Native American Graves Protection and Repatriation Act (NAGPRA), the Kansas State Historical Society (KSHS) has completed an inventory of human remains and associated funerary objects and has determined that there is a cultural affiliation between the human remains and associated funerary objects and Indian Tribes or Native Hawaiian organizations in this notice.

DATES: Repatriation of the human remains and associated funerary objects in this notice may occur on or after August 11, 2025.

ADDRESSES: Send written requests for repatriation of the human remains and associated funerary objects in this notice to Dr. Nicole Klarmann, Kansas State Historical Society, 6425 SW 6th Avenue, Topeka, KS 66615-1099, email kshs.nagpra@ks.gov.

SUPPLEMENTARY INFORMATION: This notice is published as part of the National Park Service's administrative responsibilities under NAGPRA. The determinations in this notice are the sole responsibility of the KSHS, and additional information on the determinations in this notice, including the results of consultation, can be found in its inventory or related records. The National Park Service is not responsible for the determinations in this notice.

Abstract of Information Available

Human remains representing, at least, one individual have been identified from the Point of Rocks site (14FY405) in Finney County, KS (UBS 1995-23). The six associated funerary objects include a bone bead and fragmented animal bones. A local resident removed the historic remains and objects in 1990 from a known burial site.

Human remains representing, at least, one individual have been identified from Finney County, KS (UBS 1999-19). No associated funerary objects are present. The remains are from a forensic case. The site location and other acquisition details are unknown.

Human remains representing, at least, five individuals have been identified from Ford County, KS (UBS 1989-23B) coming from the Boot Hill Museum in Dodge City, KS. No associated funerary objects are present. The original provenience of these materials is unknown.

Human remains representing, at least, one individual have been identified from Ford County, KS (UBS 1992-32). No associated funerary objects are present. The remains were in the possession of a local individual for 50 years before being brought to KSHS and were uncovered either from erosion or roadwork.

Human remains representing, at least, one individual have been identified from site 14FD338 in Ford County, KS (UBS 2014-08). No associated funerary objects are present. An environmental engineer reported that potential human remains were observed 5-6 feet deep in the sidewall of a pipeline trench.

Human remains representing, at least, one individual have been identified from Grant County, KS (UBS 1997-22). No associated funerary objects are present. Remains were reportedly removed by a physician, probably in the first half of the 20th century.

Human remains representing, at least, one individual have been identified from site 14GT310 in Grant County, KS (UBS 2006-07). The 21 associated funerary objects include ceramic sherds, debitage, stone, an Alibates biface fragment, seed halves, and wood. The burial was exposed by earthmoving associated with roadwork. A ceramic vessel was reconstructed using an unknown glue.

Human remains representing, at least, one individual have been identified from site 14HK1 in Haskell County, KS (UBS 1993-03). No associated funerary objects are present. Human remains were disturbed from a mound during agricultural activity.

Human remains representing, at least, one individual have been identified from the Burke site (14HO317) in Hodgeman County, KS (UBS 1989-02). The 32 associated funerary objects include copper and brass bracelets, buckles, a clay pipe, leather items, a stirrup, iron fragments, pendant-like earrings, a `forearm wrap', and blanket fragments. A local farmer encountered the human remains and objects while cleaning out a trench silo.

Human remains representing, at least, two individuals have been identified from Hodgeman County, KS (UBS 1999-12). No associated funerary objects are present. Partial remains were found by a local rancher in or along Pawnee Creek.

Human remains representing, at least, one individual have been identified from Kearny County, KS (UBS 2024-15). The one associated funerary object includes an antelope or deer bone covered in red pigment. The remains were originally found on a hilltop during land leveling/excavation in 1961. The human remains were reconstructed using an unknown glue and covered with an unknown shellac.

Unless noted above, to our knowledge no known hazardous substances were used to treat any of the other human remains or associated funerary objects.

Cultural Affiliation

Based on the information available and the results of consultation, cultural affiliation is reasonably identified by the geographical location or acquisition history of the human remains and associated funerary objects described in this notice.

Determinations

The KSHS has determined that:

• The human remains described in this notice represent the physical remains of 16 individuals of Native American ancestry.

• The 60 objects described in this notice are reasonably believed to have been placed intentionally with or near individual human remains at the time of death or later as part of the death rite or ceremony.

• There is a connection between the human remains and associated funerary objects described in this notice and the Cheyenne and Arapaho Tribes, Oklahoma; Jicarilla Apache Nation, New Mexico; and the Northern Arapaho Tribe of the Wind River Reservation, Wyoming.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 11, 2025. If competing requests for repatriation are received, the KSHS must determine the most appropriate requestor prior to repatriation. Requests for joint repatriation of the human remains and associated funerary objects are considered a single request and not competing requests. The KSHS is responsible for sending a copy of this notice to the Indian Tribes and Native Hawaiian organizations identified in this notice and any other consulting parties.

Authority: Native American Graves Protection and Repatriation Act, 25 U.S.C. 3003, and the implementing regulations, 43 CFR 10.10.

Dated: June 25, 2025.
Melanie O'Brien,
Manager, National NAGPRA Program.

[FR Doc. 2025-12840 Filed 7-9-25; 8:45 am]

BILLING CODE 4312-52-P